DEPARTMENT OF HOMELAND SECURITY

Coast Guard

[USCG-2003-16546]

Merchant Marine Personnel Advisory Committee

AGENCY: Coast Guard, DHS.

ACTION: Notice of meeting.

SUMMARY: The Merchant Marine Personnel Advisory Committee (MERPAC) will hold a working group meeting to discuss training requirements and certification for a vessel security officer. MERPAC agreed at its September 19, 2003, meeting to accept task statement number 44 on security training and certification for vessel security officer and other vessel personnel. To facilitate the development of any additional training requirements in support of the U.S. Coast Guard Maritime Transportation Security regulations and complete the task statement, the working group will meet to discuss both training requirements and certification of vessel security officers. This meeting will be open to the public.

DATES: The MERPAC working group will meet on Wednesday, January 7, 2004, from 11 a.m. to 5 p.m. The meeting may adjourn early if all business is finished.

ADDRESSES: The MERPAC working group will meet in room 6319, U.S. Coast Guard Headquarters, 2100 Second Street, SW., Washington, DC. This notice and task statement number 44 are available on the Internet at http://dms.dot.gov under docket number USCG-2003-16546.

FOR FURTHER INFORMATION CONTACT: For questions on this notice, contact Commander Brian J. Peter, Executive Director of MERPAC, or Mr. Mark C. Gould, Assistant to the Director, telephone 202-267-6890, fax 202-267-4570, or e-mail mgould@comdt.uscg.mil.

SUPPLEMENTARY INFORMATION: Notice of this meeting is given under the Federal Advisory Committee Act, 5 U.S.C. App. 2. The Merchant Marine Personnel Advisory Committee advises the Secretary of Homeland Security on matters relating to the training, qualifications, licensing, certification, and fitness of seamen serving in the U.S. merchant marine.

Procedural

The meeting is open to the public and we request your participation. Members of the public who plan to attend should notify Mr. Mark Gould at 202-267-6890 so that he may notify building security officials. Please note that the meeting may adjourn early if all business is finished. If you would like a copy of your material distributed to each member of the subcommittee in advance of the meeting, please submit 25 copies to the Executive Director no later than December 23, 2003.

Information on Services for Individuals With Disabilities

For information on facilities or services for individuals with disabilities or to request special assistance at the meetings, contact the Assistant Executive Director, listed above in FOR FURTHER INFORMATION CONTACT, as soon as possible.

Dated: November 20, 2003.
Joseph J. Angelo,
Director of Standards, Marine Safety, Security and Environmental Protection.

[FR Doc. 03-29652 Filed 11-26-03; 8:45 am]

BILLING CODE 4910-15-P